ENVIRONMENTAL PROTECTION AGENCY

[FRL-6542-4]

Agency Information Collection Activities: Continuing Collection: Subject of ICR: Obtaining Unbilled Grant Expenses From Grant Officials at Year-End

AGENCY: Environmental Protection Agency.

ACTION: Notice.

SUMMARY: In compliance with the Paperwork Reduction Act (44 U.S.C. 3501 et seq.), this document announces that EPA is planning to submit the following continuing Information Collection Request (ICR) to the Office of Management and Budget (OMB): Obtaining Unbilled Grant Expenses from Grant Recipients at Year-End, EPA ICR number 1810.02, OMB Control number 2030-0037, expiration date 9/30/2000. Before submitting the ICR to OMB for review and approval, EPA is soliciting comments on specific aspects of the proposed information collection as described below.

DATES: Comments must be submitted on or before May 1, 2000.

ADDRESSES: Office of the Chief Financial Officer, Office of the Comptroller, Financial Management Division, Mail Code 2733F, 1200 Pennsylvania Ave NW Washington D. C. 20460. Interested persons may obtain a copy of the ICR without charge by contacting Mr. Larry Achter at the above address, or via e-mail at Achter.Larry@EPA.gov.

FOR FURTHER INFORMATION CONTACT: Larry Achter, 202-564-4931, Facsimile Number 202-565-2586, E-MAIL Address: achter.larry@epamail.epa.gov.

SUPPLEMENTARY INFORMATION: Affected entities: Entities potentially affected by this action are those grant recipients who are paid either through the Automated Clearing House (ACH) or Automated Standard Application for Payments (ASAP) process. EPA will use the Probability Proportionate to Size sampling method to select approximately 185 grants awarded by the Agency and paid through the process. EPA will send a confirmation letter to each grant recipient to obtain information on unbilled grant expenses.

Title: Unbilled Grant Expenses from Grant Officials at Year-end (EPA ICR No. 1810.02., OMB Control Number 2030-0037) expiring 09/30/2000.

Abstract: EPA's Financial Management Division (FMD) prepares annual financial statements that present the financial position and results of operations for EPA. The financial statements must comply with the Statements of Federal Financial Accounting Standards (SFFAS) and other accounting requirements. EPA's Office of the Inspector General (OIG) audits these financial statements to determine whether they fairly and accurately reflect EPA financial conditions.

To meet the SFFAS requirements, EPA must report the estimated amount of its accrued liabilities. These accrued liabilities include: (1) Grant expenses incurred during the fiscal year that the grant recipient has paid and recorded in its accounting records but has not yet billed to EPA; and (2) grant expenses that vendors have billed the grant recipient between October 1 and November 15 (following the end of the Federal fiscal year) that relate to the prior fiscal year. EPA, working with its OIG, has evaluated the use of existing reports as a source of accrued liability information. However, grants paid through the ACH and ASAP electronic funds transfer mechanisms, do not report this information. Therefore, EPA can't obtain this information without contacting the grant recipients themselves. ASAP and ACH drawdown requests do not include period of performance data, which is essential for determining accruals. To minimize the amount of burden associated with gathering this data, EPA believes that information from a sample of approximately 185 grants would be sufficient to meet its financial statement needs. EPA would use estimation techniques to project the amount of grant accruals applicable to all EPA grants paid through ACH. The grant recipients selected in the sample would only be asked to report the accrual information on the specific grant, and not all EPA grants to that grantee. Further, other EPA grant recipients would not be affected by this information collection request.

Unless EPA is able to obtain this information from the selected grant recipients, and develop a reasonable estimate of accruals based on that data, EPA does not believe it will be able to obtain an unqualified (“clean”) audit opinion from the OIG on its financial statements. Thus the information is crucial for EPA to meet its fiduciary responsibilities. The grantees selected in the sampling process are not required to respond to our request, but the grantees' cooperation will enable EPA to fairly report the accrued liablility on the financial statement. The submitted information is not intended to be shared with other grantees or used in any other Agency program. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

EPA believes that a grant recipient should require no more than 6 hours to prepare the information requested, and the data collection will not require grant recipients to purchase new equipment or develop new procedures to compile and report the data. Thus, the total reporting burden would be 1100 hours, or a total estimated annual cost of $27,500.

Dated: February 18, 2000.
Juliette McNeil,
Acting Director, Financial Management Division.

[FR Doc. 00-4783 Filed 2-28-00; 8:45 am]

BILLING CODE 6560-50-P